FEDERAL COMMUNICATIONS COMMISSION

[CC Docket No. 92-237; DA 05-1153]

Next Meeting of the North American Numbering Council

AGENCY: Federal Communications Commission.

ACTION: Notice.

SUMMARY: On May 6, 2005, the Commission released a public notice announcing the May 17, 2005 meeting and agenda of the North American Numbering Council (NANC). The intended effect of this action is to make the public aware of the NANC's next meeting and its agenda.

DATES: Tuesday, May 17, 2005, 9:30 a.m.

ADDRESSES: Telecommunications Access Policy Division, Wireline Competition Bureau, Federal Communications Commission, The Portals II, 445 12th Street, SW., Suite 5-A420, Washington, DC 20554. Requests to make an oral statement or provide written comments to the NANC should be sent to Deborah Blue.

FOR FURTHER INFORMATION CONTACT: Deborah Blue, Special Assistant to the Designated Federal Officer (DFO) at (202) 418-1466 or Deborah.Blue@fcc.gov. The fax number is: (202) 418-2345. The TTY number is: (202) 418-0484.

SUPPLEMENTARY INFORMATION: Released: May 6, 2005.

The North American Numbering Council (NANC) has scheduled a meeting to be held Tuesday, May 17, 2005, from 9:30 a.m. until 5 p.m. The meeting will be held at the Federal Communications Commission, Portals II, 445 12th Street, SW., Room TW-C305, Washington, DC. This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting.

Proposed Agenda—Tuesday, May 17, 2005, 9:30 a.m.*

* The Agenda may be modified at the discretion of the NANC Chairman with the approval of the DFO.

1. Announcements and Recent News.

2. Approval of Minutes.

—Meeting of March 15, 2005.

3. Report of the North American Numbering Plan Administrator (NANPA).

4. Report of National Thousands Block Pooling Administrator.

5. Report of NAPM, LLC.

6. Status of Industry Numbering Committee (INC) activities.

7. Report from NANP B&C Agent.

8. Report of the Billing & Collection Oversight Working Group (B&CWG).

9. Reports from Issues Management Groups (IMGs).

—Safety Valve IMG.

—SNAC Guidelines IMG.

—NANC Primer IMG.

10. Report of Local Number Portability Administration (LNPA) Working Group.

11. Report of Numbering Oversight Working Group (NOWG).

12. Report of Future of Numbering Working Group.

13. Special presentations.

14. Update List of NANC Accomplishments.

15. Summary of action items.

16. Public comments and participation (5 minutes per speaker).

17. Other business.

Adjourn no later than 5 p.m.

Next Meeting: Tuesday, July 19, 2005.

Federal Communications Commission.
Sanford S. Williams,
Attorney, Telecommunications Access Policy Division, Wireline Competition Bureau.

[FR Doc. 05-9492 Filed 5-10-05; 8:45 am]

BILLING CODE 6712-01-P